NUCLEAR REGULATORY COMMISSION

[Docket Nos. 50-321 and 50-366]

Southern Nuclear Operating Company; Facility Operating License Nos. DPR-57 and NPF-5; Receipt of Petition for Director's Decision Under 10 CFR 2.206

Notice is hereby given that by petition dated May 3, 2000, Mr. David A. Lochbaum, on behalf of the Union of Concerned Scientists, has requested that the U.S. Nuclear Regulatory Commission (NRC) take action with regard to Edwin I. Hatch Nuclear Plant, Units 1 and 2 (Hatch), owned and operated by Southern Nuclear Operating Company, Inc., et al. (the licensee). The Petitioner requested that the NRC ask questions, via a demand for information, of the licensee concerning the liquid and gaseous radwaste systems at Hatch. As the basis for the request, the Petitioner contended that Hatch is being operated outside its design and licensing bases because the material condition of piping, tanks, and other components of the liquid and gaseous radwaste systems is not being properly inspected and maintained.

A copy of the petition is available for inspection at the Commission's Public Document Room, the Gelman Building, 2120 L Street NW., Washington, DC, and is accessible electronically through the ADAMS Public Electronics Reading Room link at the NRC Web site (http://www/nrc.gov).

For the Nuclear Regulatory Commission.
Dated at Rockville, Maryland, this 20th day of June 2000.
Roy P. Zimmerman,
Acting Director, Office of Nuclear Reactor Regulation.

[FR Doc. 00-16083 Filed 6-23-00; 8:45 am]

BILLING CODE 7590-01-P